DEPARTMENT OF TRANSPORTATION

Federal Aviation Administration

14 CFR Part 135

[Docket No.1999-5401; Amendment No. 135-92]

RIN 2120-AE42

Aging Airplane Safety

AGENCY: Federal Aviation Administration (FAA), DOT.

ACTION: Final rule; technical amendment.

SUMMARY: The Federal Aviation Administration is making minor technical changes to its aging aircraft regulations as a result of an interim final rule with a request for comments published in the Federal Register on December 6, 2002. This final rule requires airplanes covered by the aging aircraft regulations to undergo inspections and records reviews by the Administrator after their 14th year in service and at specified internals thereafter. As part of this final rule, the FAA inadvertently did not make conforming amendments to an applicability section to reflect the existence of two new sections and the redesignation of an existing section. In addition to these changes, an error exists in the heading of a new section. These technical changes are necessary to keep our regulations clear, accurate and current. The intended effect is to make our regulations easier for the public and regulated industry to use. None of these amendments will impose any extra burden or restrictions on persons or organizations affected by these regulations.

EFFECTIVE DATE: This amendment is effective on December 8, 2003.

FOR FURTHER INFORMATION CONTACT: Frederick Sobeck, Airplane Maintenance Division, AFS-304, Flight Standards Service, Federal Aviation Administration, 800 Independence Avenue SW., Washington, DC 20591; telephone (202) 267-7355; facsimile (202) 267-5115.

SUPPLEMENTARY INFORMATION:

Background

The FAA is making some technical or administrative changes to its aging aircraft regulations. These changes do not affect the substance of the existing regulations or impose any new requirements and have no impact on activities carried out under the regulations.

The FAA published in the Federal Register of December 6, 2002 (67 FR 72726) a document that created a rule requiring (1) airplanes operated under 14 CFR part 121, (2) U.S.-registered multiengine airplanes operated under 14 CFR part 129, and (3) multiengine airplanes used in scheduled operations under 14 CFR part 135 to undergo inspections and records reviews by the Administrator after their 14th year in service and at specified internals thereafter. The FAA inadvertently did not include revisions to § 135.411 to reflect the existence of the new §§ 135.422 and 135.423 and the redesignation of current § 135.423 to § 135.424, effective December 8, 2003. This amendment to § 135.411 will (a) add a reference to new § 135.422 to existing § 135.411(a)(2), (b) add a reference to new § 135.423 to existing § 135.411(a)(1), and (c) add a reference to the redisignated § 135.424 to existing § 135.411(a)(2). This document makes these appropriate amendatory changes to clearly reflect that new §§ 135.422 and 135.423, as well as redesignated § 135.424, apply to operations under part 135 as specified in § 135.411. This amendment will not impose any added restrictions on operators affected by these regulations.

In addition to the revisions to § 135.411, this amendment also corrects an error in the heading of § 135.423(b)(2). This amendment will not impose any additional restrictions on operators affected by these regulations.

Procedural Matters

Under the Administrative Procedure Act (APA), 5 U.S.C. 553, agencies must generally publish regulations for public comment and give the public at least 30 days notice before adopting regulations. There is an exception to these requirements if the agency for good cause finds that notice and public procedure are impracticable, unnecessary, or contrary to the public interest. In this case, the FAA finds that notice and comment requirements are unnecessary because of the administrative nature of the changes. The changes do not affect the rights or obligations of any regulated entity. It is in the public interest that the changes take effect promptly.

List of Subjects in 14 CFR Part 135

Air taxis, Aircraft, Aviation safety, Reporting and recordkeeping requirements.

The Amendment

In consideration of the foregoing, the Federal Aviation Administration amends Title 14 of the Code of Federal Regulations (CFR) part 135 as follows:

PART 135—OPERATING REQUIREMENTS: COMMUTER AND ON-DEMAND OPERATIONS AND RULES GOVERNING PERSONS ON BOARD SUCH AIRCRAFT

1. The authority citation for part 135 continues to read as follows:

Authority: 49 U.S.C. 106(g), 40113, 44701-44702, 44705, 44709, 44711-44713, 44715-44717, 44722.

2. Amend § 135.411 by revising the first sentence of paragraph (a)(1) and paragraph (a)(2) to read as follows:

§ 135.411 Applicability.

(a) * * *

(1) Aircraft that are type certificated for a passenger seating configuration, excluding any pilot seat, of nine seats or less, shall be maintained under parts 91 and 43 of this chapter and §§ 135.415, 135.416, 135.417, 135.421 and 135.423. * * *

(2) Aircraft that are type certificated for a passenger seating configuration, excluding any pilot seat, of ten seats or more, shall be maintained under a maintenance program in §§ 135.415, 135.416, 135.417, 135.422, and 135.424 through 135.443.

* * * * *

3. Amend § 135.423 by revising the heading of paragraph (b)(2) to read as follows:

§ 135.423 Aging airplane inspections and records reviews for multiengine airplanes certificated with nine or fewer passenger seats.

* * * * *

(b) * * *

(2) Airplanes exceeding 14 years in service but not 24 years in service on December 8, 2003; initial and repetitive inspections and records review. * * *

Issued in Washington, DC, on December 3, 2003.
Donald P. Byrne,
Assistant Chief Counsel, Regulations Division.

[FR Doc. 03-30645 Filed 12-11-03; 8:45 am]

BILLING CODE 4910-13-P